FARM CREDIT SYSTEM INSURANCE CORPORATION

12 CFR Part 1411

RIN 3055-AA07

Rules of Practice and Procedure; Rule Adjusting Civil Money Penalties for Inflation

AGENCY: Farm Credit System Insurance Corporation.

ACTION: Final rule.

SUMMARY: This rule contains the cost-of-living adjustments for the civil money penalties specified in the Farm Credit Act of 1971, as amended. Since October 1996, the penalty could not exceed $110 per day. The new penalty cannot exceed $117 per day. The new penalty is set in accordance with the Federal Civil Penalties Adjustment Act of 1990, as amended by the Debt Collection Improvement Act of 1996, which requires us to adjust our penalties for inflation every four years.

EFFECTIVE DATE: This rule will become effective on August 22, 2001.

FOR FURTHER INFORMATION CONTACT: Dorothy L. Nichols, General Counsel, Farm Credit System Insurance Corporation, McLean, VA 22102, (703) 883-4211.

SUPPLEMENTARY INFORMATION:

I. Penalty Provisions

Two provisions of the Farm Credit Act of 1971, as amended (Act) authorize the Farm Credit System Insurance Corporation (FCSIC) to impose civil money penalties. First, section 5.65(c) specifies that any insured System bank that willfully fails or refuses to file any certified statement or pay any premium required under Part E of the Act shall be subject to a penalty of $100 for each day that the violation continues. Second, section 5.65(d) makes it unlawful for anyone convicted of a criminal offense involving dishonesty or a breach of trust to serve as a director, officer, or employee of any System institution, without the prior written consent of the Farm Credit Administration. For a willful violation of this section, the FCSIC may subject the institution to a penalty of $100 for each day that the violation continues. In 1996, the FCSIC applied the inflation formula provided in the Federal Civil Penalties Adjustment Act of 1990, (28 U.S.C. 2461 note) and increased the penalties to $110.

II. Cost-of-Living Adjustment

The prescribed cost-of-living adjustment formula or inflation factor is based on the difference between the Consumer Price Index (CPI) for June of 1999 and the CPI for June of 1996, the year the penalty was last set. We used the Department of Labor Bureau of Labor Statistics—All Urban Consumers Tables. The CPI value was 156.7 for June 1996 and was 166.2 for June 1999, resulting in an inflation factor of 1.06 (i.e., a 6-percent increase). Using this adjustment the $110 penalty goes to $116.6 and with the rounding method prescribed in the statute it becomes $117.

The existing penalty of $110 continues to apply until amended by the publishing of this rule in the Federal Register.

The Federal Civil Penalties Adjustment Act of 1990, as amended by the Debt Collection Improvement Act of 1996, gives agencies no discretion in the adjustment of civil money penalties for the rate of inflation. It also requires a reassessment every 4 years. Moreover, this rule is ministerial, technical, and noncontroversial. For these reasons, the FCSIC finds good cause to determine that public notice and an opportunity to comment are impracticable, unnecessary, and contrary to the public interest pursuant to the Administrative Procedure Act, 5 U.S.C. 553(b)(B). Therefore, this rule is adopted in final form.

List of Subjects in 12 CFR Part 1411

Banks, banking, Civil money penalties, Penalties.

For the reasons stated in the preamble, part 1411 of charter XIV, title 12 of the Code of Federal Regulations is revised to read as follows:

PART 1411—RULES OF PRACTICE AND PROCEDURE

1. Revise the authority citation for part 1411 to read as follows:

Authority: Secs. 5.58(10), 5.65(c) and (d) of the Farm Credit Act; 12 U.S.C. 2277a-7(10), 2277a-14(c) and (d)); 28 U.S.C. 2461 note.

Subpart A—Rules and Procedures for Assessment and Collection of Civil Money Penalties

2. Revise § 1411.1 to read as follows:

§ 1411.1 Inflation adjustment of civil money penalties for failure to file a certified statement, pay any premium required or obtain approval before employment of persons convicted of criminal offenses.

In accordance with the Federal Civil Money Penalties Inflation Adjustment Act of 1990, as amended by the Debt Collection Improvement Act of 1996, a civil money penalty imposed pursuant to section 5.65(c) or (d) of the Act for a violation occurring on or after October 23, 1996 shall not exceed $117 per day for each day the violation continues.

Dated: August 16, 2001.
Kelly Mikel Williams,
Secretary, Farm Credit System Insurance Corporation Board.

[FR Doc. 01-21154 Filed 8-21-01; 8:45 am]

BILLING CODE 6710-01-P